DEPARTMENT OF HOUSING AND URBAN DEVELOPMENT

[Docket No. FR-7106-N-06]

Privacy Act of 1974; System of Records

AGENCY: Office of Chief Human Capital Officer, Housing and Urban Development.

ACTION: Notice of a modified system of records.

SUMMARY: Pursuant to the provisions of the Privacy Act of 1974, as amended, the Department of the Housing and Urban Development (HUD), Office of the Chief Human Capital Officer (OCHCO) is issuing a public notice of its intent to modify the Privacy Act system of records titled “Student Loan Repayment Program.”

DATES: Comments will be accepted on or before June 13, 2025. This proposed action will be effective on the date following the end of the comment period unless comments are received which result in a contrary determination.

ADDRESSES: You may submit comments, identified by docket number FR-7106-N-06.

Federal e-Rulemaking Portal: https://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to https://www.regulations.gov. including any personal information provided.

Docket: For access to the docket to read background documents or comments received go to https://www.regulations.gov.

FOR FURTHER INFORMATION CONTACT: LaDonne White; 451 Seventh Street SW, Room 10139; Washington, DC 20410-0001; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs_.

SUPPLEMENTARY INFORMATION: The HUD Student Loan Repayment Program (SLRP) allows the Department to repay all or part of any outstanding federal student loan by submitting direct payments to the lender on behalf of the employee. The implementation of the new platform “Sharepoint Online” replaced the old legacy platform Sharepoint website. Sharepoint Online interfaces with multiple automated platforms: DocuSign and PowerForm Apps which enhances and streamlines the Student Loan Repayment Program's process. Through this interface, the SLRP transitioned to an automated method, allowing HUD to process, monitor, track, and report processing activities of approved student loans more accurately, and more efficiently; unlike the previously, manually handled process. With the use of DocuSign and PowerForm Apps, this also streamlines the process, accelerates responses to inquiries about application status, and facilitates a seamless interaction for managers to communicate the status back to applicants. By enhancing the functionality of the SLRP, HUD continues to attract uniquely qualified candidates into mission-critical positions, as well as retain those highly qualified employees, already in those critical positions.

The proposed modification changes the following: the SORN number, updates the authority for the maintenance of the system, category of records, and supplementary information to add (1) How HUD has modified the current platform by which Student Loan application are managed; (2) How the new platform provides an automated functionality that improves the processing of Student Loan Repayment Program (SLRP) applications; and (3) How more efficient and effective the program is through the interfaces of DocuSign and PowerForm Apps. The change in authorities is a technical correction to the legal citation. The previous authority amended a different underlying statute found at 5 U.S.C. 5379, however; since the amendment was technical in nature the current authority cites the underlying statute which created 5 U.S.C. 5379, initially. There are no other changes to the system of records.

SYSTEM NAME AND NUMBER:

Student Loan Repayment Program, HUD/OCHCO-06.

SECURITY CLASSIFICATION:

Unclassified.

SYSTEM LOCATION:

Records are maintained at the following locations: U.S. Department of Housing and Urban Development Headquarters location, 451 7th Street SW, Washington, DC 20410-0001.

SYSTEM MANAGER(S):

Rassii Elliot, Program Manager, Contact Number (202) 402-5231, Office of the Chief Human Capital Officer (OCHCO), Office of 451 Seventh Street SW, Washington, DC 20410-0001.

AUTHORITY FOR MAINTENANCE OF THE SYSTEM:

The Defense Acquisition Workforce Improvement Act, Public Law 101-510, div. A, title XII, sec. 1206(b)(1); 5 U.S.C. 5379, as amended, and implementing regulations at 5 CFR part 537.

PURPOSE(S) OF THE SYSTEM:

The purpose of this system is to allow HUD to collect and maintain records on employees requesting or receiving repayments on qualified student loans. Another purpose of this system is to monitor, process, track and report the processing of approved student loan benefits while ensuring compliance with applicable laws and regulations, including confidentiality requirements protecting information individuals submit in support of student loan repayment requests.

CATEGORIES OF INDIVIDUALS COVERED BY THE SYSTEM:

Current and former HUD employees.

CATEGORIES OF RECORDS IN THE SYSTEM:

Full Name, employee HUD identification number, home and work addresses, home and work telephone numbers, education records, student loan applications, account numbers, loan balance, repayment schedule, repayment history, repayment status; email addresses, lender's name, lender's addresses, service agreements, program area, employee HUD office code, employee supervisor's name, supervisor's HUD identification number, employee pay plan, employee occupational series, and employee position title.

RECORD SOURCE CATEGORIES:

Individuals and loan lenders (Department of Education and loan servicing companies).

ROUTINE USES OF RECORDS MAINTAINED IN THE SYSTEM, INCLUDING CATEGORIES OF USERS AND PURPOSES OF SUCH USES:

1. To a congressional office from the record of an individual, in response to an inquiry from the congressional office made at the request of that individual.

2. To contractors, grantees, experts, consultants, Federal agencies, and non-Federal entities, including, but not limited to, State and local governments and other research institutions or their parties, and entities and their agents with whom HUD has a contract, service agreement, grant, or cooperative agreement, when necessary to accomplish an agency function, related to a system of records, for the purposes of statistical analysis and research in support of program operations, management, performance monitoring, evaluation, risk management, and policy development, or to otherwise support the Department's mission.

3. To contractors, grantees, experts, consultants and their agents, or others performing or working under a contract, service, grant, or cooperative agreement with HUD or under contract to another agency when necessary to accomplish an agency function related to a system of records. Disclosure requirements are limited to only those data elements considered relevant to accomplishing an agency function.

4. To appropriate agencies, entities, and persons when: (I) HUD suspects or has confirmed that there has been a breach of the system of records; (II) HUD has determined that as a result of the suspected or confirmed breach there is a risk of harm to individuals, HUD (including its information systems, programs, and operations), the Federal Government, or national security; and (III) The disclosure made to such agencies, entities, and persons is reasonably necessary to assist in connection with HUD's efforts to respond to the suspected or confirmed breach or to prevent, minimize, or remedy such harm.

5. To another Federal agency or Federal entity, when HUD determines that information from this system of records is reasonably necessary to assist the recipient agency or entity in (I) responding to a suspected or confirmed breach or (II) preventing, minimizing, or remedying the risk of harm to individuals, the recipient agency or entity (including its information systems, programs and operations), the Federal Government, or national security, resulting from a suspected or confirmed breach.

6. To appropriate Federal, State, local, tribal, or governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

7. To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

8. To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

9. To officials of labor organizations recognized under the Civil Service Reform Act when relevant and necessary to their duties of exclusive representation concerning personnel policies, practices, and matters affecting work conditions.

10. To the Office of Personnel Management (OPM), the Merit Systems Protection Board (and its office of the Special Counsel), the Federal Labor Relations Authority (and its General Counsel), or the Equal Employment Opportunity Commission when requested in performance of their authorized duties of exclusive representation concerning personnel policies, practices, and matters affecting work conditions.

POLICIES AND PRACTICES FOR STORAGE OF RECORDS:

Electronic and paper records.

POLICIES AND PRACTICES FOR RETRIEVAL OF RECORDS:

Full name and HUD identification number.

POLICIES AND PRACTICIES FOR RETENTION AND DISPOSAL OF RECORDS:

GRS 2.4 Employee Compensation and Benefits Records. Incentive package records. Records of recruitment, relocation, and retention incentives; federal student loan repayment; and supervisory differentials offered under the Federal Employees Pay Comparability Act. Temporary. Destroy 3 years after date of approval, completion of service agreement, or termination of incentive or differential payment, whichever is later, but longer retention is authorized if required for business use.

ADMINISTRATIVE, TECHNICAL, AND PHYSICAL SAFEGUARDS:

For Paper Records: Comprehensive paper records are kept in locked metal file cabinets in locked rooms in HUD Headquarters, in the Office of Policy, which is the office responsible for the Student Loan Repayment Program. Access to these records is limited to only those persons who have a need for them in the performance of their official duties. All physical access to the building where the system of records is maintained is controlled and monitored by security personnel who perform security checks on a routine basis.

For Electronic Records: Comprehensive electronic records are maintained and stored in an electronic encryption database system. These records can only be accessed based off the user's rights and privileges to the system. Electronic records are stored on the SharePoint “online”, D110 Microsoft Office 365 Multi-Tenant Software (MS O365 MT) environment, which runs on the Department's network (HUD). This environment complies with the security and privacy controls and procedures as described in the Federal Information Security Management Act (FISMA), National Institute of Standards and Technology (NIST) Special Publications, and Federal; Information Processing Standards (FIPS). A valid HSPD-12 ID Credential, access to HUD's LAN, a valid UserID and Password and a Personalized Identification Number (PIN) is required to access the Student Loan Repayment Program. These records are restricted to only those persons with a role in the Student Loan Repayment Program, having a need to access them in the performance of their official duties.

For Electronic Records (cloud based): Comprehensive electronic records are secured and maintained on a cloud-based software server and operating system that resides in Federal Risk and Authorization Management Program (FedRAMP) and Federal Information Security Management Act (FISMA) Moderate dedicated hosting environment. All data located in the cloud-based server is firewalled and encrypted at rest and in transit. The security mechanisms for handing data at rest and in transit are in accordance with HUD encryption standards.

RECORD ACCESS PROCEDURES:

Individuals requesting records of themselves should address written inquiries to the Department of Housing and Urban Development, 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing and Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

N/A.

HISTORY:

Docket No. FR-7062-N-10, July 25, 2022 at 87 FR 44143.

Shalanda Capehart,
Acting Chief Privacy Officer, Office of Administration.

[FR Doc. 2025-08486 Filed 5-13-25; 8:45 am]

BILLING CODE 4210-67-P